DEPARTMENT OF THE INTERIOR

Fish and Wildlife Service

Receipt of an Application for an Incidental Take Permit for Construction of Four Multi-family Residences in Charlotte County, Florida

AGENCY: Fish and Wildlife Service, Interior.

ACTION: Notice.

SUMMARY: Results Builders, Inc. (Applicant) requests an incidental take permit (ITP) for a duration of two years, pursuant to section 10(a)(1)(B) of the Endangered Species Act of 1973, as amended (Act). The Applicant anticipates removal of about 1.6 acres of Florida scrub-jay (Aphelocoma coerulescens)(scrub-jay) foraging, sheltering, and possibly nesting habitat, incidental to lot preparation for the construction of four multi-family residences and supporting infrastructure on four lots in Charlotte County, Florida (Project). The Applicant's Habitat Conservation Plan (HCP) describes the mitigation and minimization measures proposed to address the effects of the Project to the scrub-jay. These measures are outlined in the SUPPLEMENTARY INFORMATION section below.

DATES: Written comments on the ITP application and HCP should be sent to the Service's Regional Office (see ADDRESSES) and should be received on or before January 26, 2007.

ADDRESSES: Persons wishing to review the application and HCP may obtain a copy by writing the Service's Southeast Regional Office, 1875 Century Boulevard, Suite 200, Atlanta, Georgia 30345 (Attn: Endangered Species Permits), or the Service's South Florida Ecological Services Field Office, U.S. Fish and Wildlife Service, 1339 20th Street, Vero Beach, Florida 32960-3559. Please reference permit number TE108858-0 in such requests. Documents will also be available for public inspection by appointment during normal business hours at the Southeast Regional Office or the South Florida Ecological Services Field Office.

FOR FURTHER INFORMATION CONTACT: Mr. David Dell, Regional HCP Coordinator, (see ADDRESSES above), telephone: 404/679-7313, facsimile: 404/679-7081; or Connie Cassler, Fish and Wildlife Biologist, South Florida Ecological Services Field Office, Vero Beach, Florida (see ADDRESSES above), telephone: 772/562-3909, ext. 243, facsimile 772/562-4288.

SUPPLEMENTARY INFORMATION: If you wish to comment, you may submit comments by any one of several methods. Please reference permit number TE108858-0 in such comments. You may mail comments to the Service's Southeast Regional Office (see ADDRESSES). You may also comment via the Internet to david_dell@fws.gov. Please include your name and return address in your internet message. If you do not receive a confirmation from us that we have received your internet message, contact us directly at either telephone number listed above (see FOR FURTHER INFORMATION CONTACT). Finally, you may hand-deliver comments to either Service office listed above (see ADDRESSES). Our practice is to make comments, including names and home addresses of respondents, available for public review during regular business hours. Individual respondents may request that we withhold their home addresses from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The Florida scrub-jay is geographically isolated from other species of scrub-jays found in Mexico and the western United States. The scrub-jay is found exclusively in peninsular Florida and is restricted to xeric uplands (predominately in oak-dominated scrub). Increasing urban and agricultural development has resulted in habitat loss and fragmentation, which has adversely affected the distribution and numbers of scrub-jays. The total estimated population is between 7,000 and 11,000 individuals.

Recent surveys by environmental consultants documented the presence of scrub-jays using the Applicant's property in Punta Gorda, Florida (Punta Gorda Isles Subdivision). It was determined that one scrub-jay family, currently consisting of four birds, likely use the Applicant's four lots as a portion of their territory. The scrub-jays using the subject residential lots and adjacent properties are part of a larger complex of scrub-jays located in a matrix of urban and natural settings in southern Sarasota and western Charlotte Counties.

Since the Applicant's residential lots fall within a known scrub-jay territory, it likely provides a portion of the foraging, sheltering and possibly nesting habitat needs for one scrub-jay family. Construction of the proposed Project may result in harm to scrub-jays, incidental to the carrying out of otherwise lawful activities. The destruction of 1.6 acres of habitat associated with the proposed multi-family residential construction may result in the take of one family of scrub-jays by reducing the amount of available habitat within their territory.

The Applicant proposes to mitigate for the loss of 1.6 acres of scrub-jay habitat by contribution to an authorized scrub-jay fund. Contribution to a scrub-jay fund would be $84,800, ear-marked for use in the conservation and recovery of scrub-jays and may include habitat acquisition, restoration, and management. This contribution would be sufficient to acquire and perpetually manage about 3.2 acres of suitable occupied scrub-jay habitat based on a replacement ratio of two mitigation acres per one impact acre. The Applicant proposes to minimize impacts to the scrub-jay by conducting land clearing activities outside of the nesting season (March 1 through June 30) and to remove any exotic vegetation from the lot. The Applicant also proposes to landscape with native scrub oaks and other native species to maintain as natural a habitat as possible. The Applicant has proposed the footprint of all four dwellings on each lot as close to the road as possible, so that the largest possible area of vegetation will exist in the rear of the properties following landscaping. Since the rear of each lot is adjacent to the rear of one or two of the other lots, a continuous strip of vegetation would be created. The Applicant would avoid planting perch trees for predators that could prey on scrub-jays in the surrounding unimproved lots.

The Service has determined that the Applicant's proposal, including the proposed mitigation and minimization measures, would individually and cumulatively have a minor or negligible effect on the species covered in the HCP. Therefore, the ITP is a “low-effect” project and would qualify as a categorical exclusion under the National Environmental Policy Act, as provided by the Department of Interior Manual (516 DM 2, Appendix 1 and 516 DM 6, Appendix 1). This preliminary information may be revised based on our review of public comments that we receive in response to this notice. Low-effect HCPs are those involving: (1) Minor or negligible effects on federally listed or candidate species and their habitats, and (2) minor or negligible effects on other environmental values or resources.

The Service will evaluate the HCP and comments submitted thereon to determine whether the application meets the requirements of section 10(a)(1)(B) of the Act. If it is determined that those requirements are met, the ITP would be issued for incidental take of the Florida scrub-jay. The Service will also evaluate whether issuance of the section 10(a)(1)(B) ITP complies with section 7 of the Act by conducting an intra-Service section 7 consultation. The results of this consultation, in combination with the above findings, will be used in the final analysis to determine whether or not to issue an ITP. This notice is provided pursuant to section 10 of the Act and National Environmental Policy Act regulations (40 CFR 1506.6).

Dated: November 9, 2006.
Cynthia K. Dohner,
Acting Regional Director, Southeast Region.

[FR Doc. E6-22136 Filed 12-26-06; 8:45 am]

BILLING CODE 4310-55-P